DEPARTMENT OF TRANSPORTATION

Office of the Secretary

Notice of Applications for Certificates of Public Convenience and Necessity and Foreign Air Carrier Permits Filed Under Subpart B (Formerly Subpart Q) During the Week Ending August 8, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0183.

Date Filed: August 5, 2009.

Due Date for Answers, Conforming Applications, or Motion to Modify Scope: August 26, 2009.

Description: Application of Omni Air International, Inc. requesting a disclaimer of jurisdiction or, alternatively, for approval of the transfer of its certificate of public convenience and necessity.

Docket Number: DOT-OST-2009-0187.

Date Filed: August 7, 2009.

Due Date for Answers, Conforming Applications, or Motion to Modify Scope: August 28, 2009.

Description: Application of Charter Air Transport Inc. requesting authority to operate scheduled passenger service as a commuter air carrier.

Renee V. Wright,
Program Manager, Docket Operations, Federal Register Liaison.

[FR Doc. E9-20271 Filed 8-21-09; 8:45 am]

BILLING CODE 4910-9X-P